DEPARTMENT OF EDUCATION

Applications for New Awards; Grants to States for School Emergency Management Program

AGENCY: Office of Elementary and Secondary Education, Department of Education.

ACTION: Notice.

SUMMARY: The Department of Education (Department) is issuing a notice inviting applications for new awards for fiscal year (FY) 2018 for Grants to States for School Emergency Management (GSEM) program, Catalog of Federal Domestic Assistance (CFDA) number 84.184Q.

DATES:

Applications Available: August 2, 2018.

Deadline for Transmittal of Applications: September 4, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Hamed Negron-Perez, U.S. Department of Education, 400 Maryland Avenue SW, Room 3C130, Washington, DC 20202-6450. Telephone: (202) 453-6725. Email: Hamed.Negron-Perez@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The GSEM program provides grants to State educational agencies (SEAs) to increase their capacity to assist local educational agencies (LEAs) by providing training and technical assistance in the development and implementation of high-quality school emergency operations plans (EOPs), as defined in this notice.

Background: Lessons learned from school emergencies highlight the importance of preparing school officials and first responders to implement EOPs. By having plans in place to keep students and staff safe, schools play a key role in taking preventive and protective measures to stop an emergency from occurring or reduce its impact.¹ High-quality school EOPs can make our schools safer by supporting efforts to prevent, protect against, mitigate, respond to, and recover from all threats and hazards, both natural and man-made. The GSEM program will help schools address violence and foster safer school environments by increasing the capacity of SEAs to assist LEAs in the development, implementation, and review of high-quality and comprehensive school EOPs.

¹ “Guide for Developing High-Quality School Emergency Operations Plans,” June 2013. Available at: https://rems.ed.gov/docs/REMS_K-12_Guide_508.pdf.

It is critical for SEAs and LEAs to ensure that every school has an effective, high-quality school EOP in place and that students and staff are prepared to follow it. A 2016 report from the Government Accountability Office (GAO) notes that in a survey of 51 SEAs, over 60 percent required their LEAs to have EOPs and conduct emergency exercises; however, fewer than half of those States surveyed reported they also required their districts or State to review these district or school plans. Additionally, an estimated 59 percent of the surveyed LEAs reported having limited resources available to implement and sustain emergency management planning efforts, thus reinforcing the value of State and Federal support.²

² “Improved Federal Coordination Could Better Assist K-12 Schools Prepare for Emergencies,” GAO-16-144, March 2016. Available at: www.gao.gov/assets/680/675737.pdf.

Generally, SEAs share with their LEAs information about applicable laws and requirements related to school emergency management planning; they also may support LEAs in fulfilling these obligations. For example, SEAs may provide training, resources, and tools to support school safety and security, including emergency management planning. SEAs may also work with other State agencies or organizations to provide emergency management services to LEAs.

In order to develop and implement high-quality school EOPs, LEA staff must have access to training and technical assistance on developing, implementing, and refining their plans. SEAs can play a critical role in providing the necessary training and technical assistance to LEAs.

In 2014, the Department awarded GSEM grants to 26 SEAs, which allowed SEAs to increase their capacity to provide high-quality technical assistance to their LEAs, while increasing the number of high-quality school EOPs in each district. The Department will build on the prior success of this program by awarding new grants of up to five years to SEAs to further support their LEAs through training and technical assistance. While the new competition will give priority to SEAs that have not previously received GSEM grants, previous GSEM grantees are also eligible for awards.

Priorities: We are establishing these priorities for the FY 2018 grant competition and any subsequent year in which we make awards from the list of unfunded applications from this competition, in accordance with section 437(d)(1) of the General Education Provisions Act (GEPA), 20 U.S.C. 1232(d)(1).

Absolute Priority: This priority is an absolute priority. Under 34 CFR 75.105(c)(3) we consider only applications that meet this priority.

This priority is:

Projects that expand the capacity of SEAs to provide training and technical assistance to LEAs.

Projects to increase the long-term internal capacity of SEAs to provide training and technical assistance to LEAs for the development and implementation of high-quality school EOPs.

Competitive Preference Priority: For FY 2018 and any subsequent year in which we make awards from the list of unfunded applications from this competition, this priority is a competitive preference priority. Under 34 CFR 75.105(c)(2)(1) we award an additional 5 points to an application that meets this priority.

This priority is:

Applications from SEAs that have not previously received a grant under the GSEM program (5 points).

Projects proposed by applicants that have not previously received a grant under this program. A list of former recipients of this grant may be found at https://www2.ed.gov/programs/schlemergmgt-sea/2014awards.html.

Requirements: We are establishing these program requirements and application requirements for the FY 2018 grant competition and any subsequent year in which we make awards from the list of unfunded applications from this competition, in accordance with section 437(d)(1) of GEPA, 20 U.S.C. 1232(d)(1).

Program Requirements: Applicants that receive grants under this program must:

(1) Provide an established point of contact (e.g., person or office) for school emergency management issues and submit that information to the Department no later than the project start date;

(2) Provide training and technical assistance to LEAs on best practices for developing and implementing school EOPs including, but not limited to, the process described in the “Guide for Developing High-Quality School Emergency Operations Plans”; ³

³ Available at: https://rems.ed.gov/docs/REMS_K-12_Guide_508.pdf. Plans must comply with the Americans with Disabilities Act (ADA), among other prohibitions on disability discrimination, across the spectrum of emergency management services, programs, and activities, including preparation, testing, notification and alerts, evacuation, transportation, sheltering, emergency medical care and services, transitioning back, recovery, and repairing and rebuilding. Plans should include students, staff, and parents with disabilities. Among other things, school emergency plans must address the provision of appropriate auxiliary aids and services to ensure effective communication with individuals with disabilities (e.g., interpreters, captioning, and accessible information technology); ensure individuals with disabilities are not separated from service animals and assistive devices, and can receive disability-related assistance throughout emergencies (e.g., assistance with activities of daily living and administration of medications); and comply with the law's architectural and other requirements. Information and technical assistance about the ADA is available at www.ada.gov.

(3) Provide training and technical assistance to LEAs on developing or enhancing memoranda of understanding with community partners (e.g., local government, law enforcement, public safety or emergency management, public health, and mental health agencies); and

(4) Provide training and technical assistance to LEAs on the implementation of the National Incident Management System (NIMS). Information about current NIMS requirements for States may be accessed at: www.fema.gov/national-incident-management-system.

Application Requirements: Each application must contain a plan that includes the following:

(1) Information on:

(a) Training, technical assistance, and resources the applicant currently provides to LEAs on emergency management;

(b) The current number of LEAs served;

(c) The proposed number of LEAs, including rural LEAs that might not otherwise have full access to school emergency management training and resources, that would receive training and technical assistance to improve their school EOPs under the applicant's proposal.

(d) A description of how the SEA will evaluate the quality of training and technical assistance events administered to their LEAs, which should incorporate feedback from LEAs and other stakeholders (e.g. parents, students, teachers, first-responders, etc.)

(2) A long-term strategy for improving the applicant's:

(a) Capacity to provide training and technical assistance to LEAs, including rural LEAs that might not otherwise have full access to school emergency management training and resources; and capacity to address the unique needs of students, staff, and visitors with disabilities and other access and functional needs, including individuals with limited English proficiency;

(b) Existing training and technical assistance activities for their LEAs;

(c) Catalog of emergency management resources; and

(d) Alignment of emergency management training, technical assistance, and resources with emergency management planning at the Federal, State, and local levels.

(3) A description of a process for the coordination and sustainability of support that will be provided to LEAs so that they can continue to improve their schools' EOPs beyond the period of Federal financial assistance.

Definitions: We are establishing the definitions for “high-quality school emergency operations plan (EOP),” “rural LEA,” “technical assistance,” and “training” in this notice for the FY 2018 grant competition and any subsequent year in which we make awards from the list of unfunded applications from this competition, in accordance with section 437(d)(1) of GEPA, 20 U.S.C. 1232(d)(1). The remaining definitions are from 20 U.S.C. 7801(30), 7801(36), 7801(48), and 7801(49).

These definitions are:

High-Quality School Emergency Operations Plan (EOP) means a comprehensive emergency operations plan that encompasses the five mission areas—(1) prevention, (2) protection, (3) mitigation, (4) response, and (5) recovery—and that is (a) adequate, (b) feasible, (c) acceptable, (d) complete, and (e) compliant.⁴

⁴ Derived from: (1) Presidential Policy Directive 8, available at www.dhs.gov/presidential-policy-directive-8-national-preparedness; and (2) “Guide for Developing High-Quality Emergency Operations Plans,” available at https://rems.ed.gov/docs/REMS_K-12_Guide_508.pdf.

For the purpose of this definition, the following terms are as defined below:

(1) Prevention means the capabilities necessary to avoid, deter, or stop an imminent crime or threatened or actual mass casualty incident. Prevention is also the action schools take to prevent a threatened or actual incident from occurring; and includes those capabilities necessary to avoid, prevent, or stop a threatened or actual act of terrorism, and it includes preventing imminent threats.

(2) Protection means the capabilities to secure schools against acts of violence and manmade or natural disasters. Protection focuses on ongoing actions that protect students, teachers, staff, visitors, networks, and property from a threat or hazard.

(3) Mitigation means the capabilities necessary to eliminate or reduce the loss of life and property damage by lessening the impact of an event or emergency. It also means reducing the likelihood that threats and hazards will happen.

(4) Response means the capabilities necessary to stabilize an emergency once it has already happened or is certain to happen in an unpreventable way; establish a safe and secure environment; save lives and property; and facilitate the transition to recovery.

(5) Recovery means the capabilities necessary to assist schools affected by an event or emergency in restoring the learning environment.

(a) Adequate means the plan identifies and addresses critical courses of action effectively; the plan can accomplish the assigned function; and the assumptions are valid and reasonable.

(b) Feasible means the school can accomplish the assigned function and critical tasks by using available resources within the time contemplated by the plan, and that the plan explains where or how the district and school will obtain the resources to support the execution of a course of action or to meet a requirement established in the plan.

(c) Acceptable means the plan meets the requirements driven by a threat or hazard, meets cost and time limitations, and is consistent with the law.

(d) Complete means the plan:

(i) Incorporates all courses of action to be accomplished for all selected threats and hazards and identified functions;

(ii) Integrates the needs of the whole school community;

(iii) Provides a complete picture of what should happen, when, and at whose direction;

(iv) Estimates time for achieving objectives, with safety remaining as the utmost priority;

(v) Identifies success criteria and a desired end state; and

(vi) Conforms with the planning principles outlined in the “Guide for Developing High-Quality School Emergency Operations Plans.”

(e) Compliant means the plan complies with applicable State and local requirements because these provide a baseline that facilitates both planning and execution.

LEA means a local educational agency as defined by section 8101(30) of the Elementary and Secondary Education Act of 1965, as amended (ESEA) (20 U.S.C. 7801(30)).

Outlying areas means the United States Virgin Islands, Guam, American Samoa, the Commonwealth of the Northern Mariana Islands, the Federated States of Micronesia, and the Republic of the Marshall Islands. (ESEA section 8101(36), 20 U.S.C. 7801(36)).

Rural LEA means an LEA with one of the following district locale codes as assigned by the National Center for Education Statistics' Common Core of Data: Code 33 (Remote Town); Code 41 (Fringe Rural); Code 42 (Distant Rural); and Code 43 (Remote Rural). LEA locale codes may be obtained by searching the Common Core of Data database at: http://nces.ed.gov/ccd/districtsearch/.

SEA means a State educational agency as defined by section 8101(49) of the ESEA (20 U.S.C. 7801(49)).

State means any of the 50 States, the District of Columbia, and the Commonwealth of Puerto Rico, and each of the outlying areas as defined in this notice. (ESEA section 8101(48), 20 U.S.C. 7801(48)).

Technical assistance means consultations, information, referrals, logistical support, and other assistance on specific issues, topics, or problems as requested by the LEAs and other stakeholders. The grantee disseminates materials collected, developed, adapted, and adopted for this assistance. Technical assistance may proceed, follow, or be combined with training activities.

Training means instruction directed toward imparting knowledge, skills, and attitudes supportive of change by engaging, informing, equipping, and motivating trainees toward the development and implementation of action plans responsive to the specific need or circumstances of the trainees. Training may consist of various formats (e.g., workshops, seminars, or computer-assisted tutorials).

Waiver of Proposed Rulemaking: Under the Administrative Procedure Act (5 U.S.C. 553) the Department generally offers interested parties the opportunity to comment on proposed priorities, requirements, and definitions. Section 437(d)(1) of GEPA (20 U.S.C. 1232(d)(1)), however, allows the Secretary to exempt from rulemaking requirements, regulations governing the first grant competition under a new or substantially revised program authority. This is the first grant competition for this program under title IV, part F, subpart 3 of the ESEA (20 U.S.C. 7281), and therefore qualifies for this exemption. In order to ensure timely grant awards, the Secretary has decided to forgo public comment on the priorities, requirements, and definitions in this notice under section 437(d)(1) of GEPA. These priorities, requirements, and definitions will apply to the FY 2018 grant competition and any subsequent year in which we make awards from the list of unfunded applications from this competition.

Program Authority: Title IV, part F, subpart 3 of the ESEA (20 U.S.C. 7281).

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations in 34 CFR part 299.

II. Award Information

Type of Award: Discretionary grants.

Estimated Available Funds: $8,000,000.

Contingent upon the availability of funds and the quality of applications, we may make additional awards in subsequent years from the list of unfunded applications from this competition.

Estimated Range of Awards: $250,000 to $750,000 per year for up to 5 years.

Estimated Average Size of Awards: $500,000.

Maximum Award: We will not make an award exceeding $750,000 for a single budget period of 12 months.

Estimated Number of Awards: 16.

Note: The Department is not bound by any estimates in this notice.

Project Period: Up to 60 months.

III. Eligibility Information

1. Eligible Applicants: SEAs.

Note: Consistent with the definitions in this notice, eligible applicants include SEAs in the 50 States, the District of Columbia, the Commonwealth of Puerto Rico, the United States Virgin Islands, Guam, American Samoa, the Commonwealth of the Northern Mariana Islands, the Federated States of Micronesia, and the Republic of the Marshall Islands. Eligible applicants may collaborate informally or contract with other agencies to provide services to LEAs, including agencies such as:

• A State school safety center;

• The State emergency management agency; and

• The State homeland security department.

2. Cost Sharing or Matching: This program does not require cost sharing or matching.

3. Subgrantees: A grantee under this competition may not award subgrants to entities to directly carry out project activities described in its application.

4. Administrative Direction and Control: Administrative direction and control over grant funds must remain with the grantee.

5. Limitation on Applications: The Department will accept only one application per SEA.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This program is subject to Executive Order 12372 and the regulations in 34 CFR part 79. However, under 34 CFR 79.8(a), we waive intergovernmental review in order to make awards by the end of FY 2018.

V. Application Review Information

1. Selection Criteria: The selection criteria for this program are from 34 CFR 75.210. The maximum score for all selection criteria is 100 points. The points or weights assigned to each criterion are indicated in parentheses. Non-Federal peer reviewers will review each application and will evaluate and score each program narrative against the following selection criteria:

(a) Significance. (20 points)

The Secretary considers the significance of the proposed project. In determining the significance of the proposed project, the Secretary considers the following factors:

(i) The likelihood that the proposed project will result in system change or improvement. (10 points)

(ii) The extent to which the proposed project is likely to build local capacity to provide, improve, or expand services that address the needs of the target population. (10 points)

(b) Quality of the Project Design. (30 points)

The Secretary considers the quality of the design of the proposed project. In determining the quality of the design of the proposed project, the Secretary considers the following factors:

(i) The extent to which the design of the proposed project is appropriate to, and will successfully address, the needs of the target population or other identified needs. (15 points)

(ii) The extent to which the design of the proposed project reflects up-to-date knowledge from research and effective practice. (15 points)

(c) Quality of Project Services. (30 points)

The Secretary considers the quality of the services to be provided by the proposed project.

(i) In determining the quality of the services to be provided by the proposed project, the Secretary considers the quality and sufficiency of strategies for ensuring equal access and treatment for eligible project participants who are members of groups that have traditionally been underrepresented based on race, color, national origin, gender, age, or disability. (5 points)

In addition, the Secretary considers the following factors:

(ii) The extent to which the services to be provided by the proposed project are appropriate to the needs of the intended recipients or beneficiaries of those services. (10 points)

(iii) The extent to which the training or professional development services to be provided by the proposed project are of sufficient quality, intensity, and duration to lead to improvements in practice among the recipients of those services. (10 points)

(iv) The extent to which the services to be provided by the proposed project involve the collaboration of appropriate partners for maximizing the effectiveness of project services. (5 points)

(d) Adequacy of Resources. (20 points)

The Secretary considers adequacy of resources for the proposed project. In determining the adequacy of resources for the proposed project, the Secretary considers the potential for continued support for the project after Federal funding ends, including as appropriate, the demonstrated commitment of appropriate entities to such support. (20 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 (GPRA) performance measures for the GSEM program:

(a) The number of training events provided by the GSEM program to assist LEAs in the development and implementation of high-quality school EOPs.

(b) The extent to which the GSEM program expands the capacity of the SEAs to provide training and technical assistance to LEAs for the development and implementation of high-quality school EOPs.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Dated: July 27, 2018.
Frank Brogan,
Assistant Secretary of Elementary and Secondary Education.

[FR Doc. 2018-16540 Filed 8-1-18; 8:45 am]

BILLING CODE 4000-01-P